DEPARTMENT OF DEFENSE

Office of the Secretary

[Docket ID DOD-2010-OS-0166]

Privacy Act of 1974; System of Records

Agency: Office of the Secretary, DoD.

Action: Notice to delete a system of records.

SUMMARY: The Office of the Secretary of Defense is deleting a systems of record notice from its existing inventory of record systems subject to the Privacy Act of 1974, (5 U.S.C. 552a), as amended.

DATES: This proposed action will be effective without further notice on January 18, 2011 unless comments are received which result in a contrary determination.

ADDRESSES: You may submit comments, identified by docket number and/Regulatory Information Number (RIN) and title, by any of the following methods:

* Federal Rulemaking Portal: http://www.regulations.gov Follow the instructions for submitting comments.

* Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Privacy Act Officer, Office of Freedom of Information, Washington Headquarters Services, 1155 Defense Pentagon, Washington, DC 20301-1155, or Mrs. Cindy Allard at (703) 588-6830.

SUPPLEMENTARY INFORMATION: The Office of the Secretary of Defense systems of records notices subject to the Privacy Act of 1974, (5 U.S.C. 552a), as amended, have been published in the Federal Register and are available from the FOR FURTHER INFORMATION CONTACT address above.

The Office of the Secretary of Defense proposes to delete one system of records notice from its inventory of record systems subject to the Privacy Act of 1974 (5 U.S.C. 552a), as amended. The proposed deletion is not within the purview of subsection (r) of the Privacy Act of 1974, (5 U.S.C. 552a), as amended, which requires the submission of a new or altered system report.

Dated: December 9, 2010.
Morgan F. Park,
Alternate OSD Federal Register Liaison Officer, Department of Defense.

Deletion:

DSMC 01

Defense Systems Management College (DSMC) Personnel Information Files (February 22, 1993, 58 FR 10227).

Reason:

The Defense Systems Management College (DSMC) Personnel Information Files (DSMC 01) is being deleted because the records in the system are also covered under the following umbrella systems of records notices:

Civilians: OPM/Gov't-1, General Personnel Records (June 19, 2006, 71 FR 35342).

Army: A 0600-8-1046 ANRC, Official Military Personnel Record (August 8, 2004, 69 FR 51271).

Navy: N01070-3, Navy Military Personnel Records System (April 15, 2010, 75 FR 19627).

Marine Corps: M01070-6, Marine Corps Official Military Personnel Files (March 17, 2008, 73 FR 14234)

Air Force: F036 AF PC C, Military Personnel Records System (October 13, 2000, 65 FR 60916).

[FR Doc. 2010-31569 Filed 12-15-10; 8:45 am]

BILLING CODE 5001-06-P